DEPARTMENT OF COMMERCE

Submission for OMB Review; Comment Request

The Department of Commerce will submit to the Office of Management and Budget (OMB) for clearance the following proposal for collection of information under the provisions of the Paperwork Reduction Act (44 U.S.C. chapter 35).

Agency: National Oceanic and Atmospheric Administration (NOAA).

Title: Elwha River Dam Removal and Floodplain Restoration Ecosystem Service Valuation Pilot.

OMB Control Number: None.

Form Number(s): NA.

Type of Request: Regular submission (request for a new information collection).

Number of Respondents: 164.

Average Hours per Response: 1 hour for interviews, 2 hours for focus groups and stakeholder meetings.

Burden Hours: 304.

Needs and Uses: NOAA is requesting approval to conduct focus groups, stakeholder meetings and one-on-one interviews to develop and test the Elwha River Dam Removal and Floodplain Restoration Ecosystem Service Valuation Survey. The planned removal of two hydroelectric dams on the Elwha River would be one of the largest dam removal projects in U.S. history. This project, along with restoration actions planned for the floodplain and drained reservoir basins, would have numerous impacts to people of the surrounding region. Impacted groups include recreators who engage in river activities such as fishing and rafting, reservoir users, and members of American Indian Tribes for whom the river has cultural, environmental, and economic significance. The dam removal and restoration actions could also have value to people throughout the Pacific Northwest and the U.S., regardless of whether they visit the Elwha River or Olympic Peninsula. Such nonuse value may be significant because the dam removal and habitat restoration will restore the river to more natural conditions and will restore threatened and endangered populations of salmon and other fish species. This project will also address an important gap in research on indirect and nonuse values provided by habitat restoration and protection.

To ensure the survey questions and policy scenarios presented in this survey are accurate, easily understood, and the least burdensome, it is important to test the survey with small focus groups and in one-on-one interviews.

Affected Public: Individuals or households.

Frequency: One-time only.

Respondent's Obligation: Voluntary.

OMB Desk Officer: OIRA_Submission@omb.eop.gov.

Copies of the above information collection proposal can be obtained by calling or writing Diana Hynek, Departmental Paperwork Clearance Officer, (202) 482-0266, Department of Commerce, Room 6616, 14th and Constitution Avenue, NW., Washington, DC 20230 (or via the Internet at dHynek@doc.gov).

Written comments and recommendations for the proposed information collection should be sent within 30 days of publication of this notice to OIRA_Submission@omb.eop.gov.

Dated: September 21, 2011.
Gwellnar Banks,
Management Analyst, Office of the Chief Information Officer.

[FR Doc. 2011-24738 Filed 9-26-11; 8:45 am]

BILLING CODE 3510-JE-P